DEPARTMENT OF HEALTH AND HUMAN SERVICES

Centers for Disease Control and Prevention

[30Day-22-0943]

Agency Forms Undergoing Paperwork Reduction Act Review

In accordance with the Paperwork Reduction Act of 1995, the Centers for Disease Control and Prevention (CDC) has submitted the information collection request titled “Data Collection for the Residential Care Community and Adult Day Services Center Components of the National Post-acute and Long-term Care Study” to the Office of Management and Budget (OMB) for review and approval. CDC previously published a “Proposed Data Collection Submitted for Public Comment and Recommendations” notice on January 24, 2022 to obtain comments from the public and affected agencies. CDC received one non-substantive comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Data Collection for the Residential Care Community and Adult Day Services Center Components of the National Post-acute and Long-term Care Study (OMB Control No. 0920-0943, Exp. 09/30/2023)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, “shall collect statistics on health resources . . . [and] utilization of health care, including extended care facilities, and other institutions.”

NCHS seeks approval to collect data for the residential care community (RCC) and adult day services center (ADSC) survey components of the sixth National Post-Acute and Long-Term Care Study or NPALS (formerly known as the National Study of Long-Term Care Providers or NSLTCP).

The NPALS is designed to: (1) broaden NCHS' ongoing coverage of paid, regulated long-term care (LTC) providers; (2) merge with existing administrative data on LTC providers and service users (e.g., Centers for Medicare and Medicaid Services (CMS) data on inpatient rehabilitation facilities and patients, long-term care hospitals and patients, nursing homes and residents, home health agencies and patients, and hospices and patients); (3) update data more frequently on LTC providers and service users for which nationally representative administrative data do not exist; and (4) enable comparisons across LTC sectors and timely monitoring of supply and use of these sectors over time.

Data will be collected from national samples of two types of LTC providers in the 50 states and the District of Columbia: 2,090 RCCs and 1,750 ADSCs. The RCC sampling frame will contain all of the state-licensed RCCs that are licensed for four or more beds. Participants in the ADSC component will be sampled from a comprehensive listing of ADSCs maintained by the National Adult Day Services Association (NADSA).

Data were collected in 2012, 2014, 2016, 2018, and 2020. The data to be collected in 2022 include the basic characteristics, services, staffing, and practices of RCCs and ADSCs, and the demographics, selected health conditions and health care utilization, physical functioning, and cognitive functioning of RCC residents and ADSC participants. The 2022 NPALS also includes interviews with subject matter experts about electronic health records (EHRs) use among ADSCs and RCCs and available EHRs data for them.

Expected users of data from this collection effort include, but are not limited to, CDC; other DHHS agencies, such as the Office of the Assistant Secretary for Planning and Evaluation, The Administration for Community Living, and the Agency for Healthcare Research and Quality; associations, such as LeadingAge, National Center for Assisted Living, American Seniors Housing Association, Argentum, Advancing States, and National Adult Day Services Association; universities; foundations; and other private sector organizations such as the Alzheimer's Association, the AARP Public Policy Institute, and the National Academies of Sciences, Engineering, and Medicine.

Expected average burden for data collection is 60 minutes per respondent: 30 minutes for a provider questionnaire and 30 minutes for a services user questionnaire. In addition, 20 individuals with subject matter expertise in the use of electronic health records (HER) will be recruited to participate in a one-hour interview.

Changes to be implemented in 2022 include; reducing the number of sampled RCCs and ADCSs; use of a provider questionnaire and a services user questionnaire (instead of a multi-purpose form); and minor changes to questions and response options to improve usability and data quality.

OMB approval is requested for two years. The annualized estimates for number of respondents and burden hours are summarized below, assuming a 100% response rate. The total estimated annualized burden hours are 1,932. Participation is voluntary and there is no cost to respondents other than their time to participate.

Estimated Annualized Burden Hours
Type of respondents | Form name | Number of respondents | Number of responses per respondent | Average burden per response (in hours)
RCC Director/Designated Staff Member | RCC Provider Questionnaire | 1,045 | 1 | 30/60
ADSC Director/Designated Staff Member | ADSC Provider Questionnaire | 875 | 1 | 30/60
RCC Director/Designated Staff Member | RCC Services User Questionnaire | 1,045 | 1 | 30/60
ADSC Director/Designated Staff Member | ADSC Services User Questionnaire | 875 | 1 | 30/60
RCC/ADSC Subject Matter Experts | EHRs Subject Matter Expert Interview | 10 | 1 | 1

Jeffrey M. Zirger,
Lead, Information Collection Review Office, Office of Scientific Integrity, Office of Science, Centers for Disease Control and Prevention.

[FR Doc. 2022-12146 Filed 6-6-22; 8:45 am]

BILLING CODE 4163-18-P